DEPARTMENT OF COMMERCE

National Institute of Standards and Technology

15 CFR Part 280

[Docket No: 050705177-5177-01]

RIN 0693-AB55

Fastener Quality Act

AGENCY: National Institute of Standards and Technology, United States Department of Commerce.

ACTION: Final rule.

SUMMARY: The Director of the National Institute of Standards and Technology (NIST), United States Department of Commerce, and the Director of the United States Patent and Trademark Office (USPTO), United States Department of Commerce, are amending the rules that implement the Fastener Quality Act of 1999 to provide that all documents submitted in connection with the recordal of fastener insignia must be mailed to a particular postal box maintained by United States Patent and Trademark Office.

DATES: This final rule is effective on September 26, 2005.

FOR FURTHER INFORMATION CONTACT: Ari Leifman, Office of the Commissioner for Trademarks, P.O. Box 1451, Alexandria, Virginia 22313-1451, telephone number (571) 272-9572.

SUPPLEMENTARY INFORMATION:

Background

The Fastener Quality Act of 1999, Public Law 101-592 (as amended by Pub. L. 104-113, Pub. L. 105-234 and Pub. L. 106-34) requires the Secretary of Commerce to establish a program for the recordation of the identifying insignia of certain fasteners. The rules set forth at Subpart D of 15 CFR 280.300 et seq. accordingly provide for a recordation system, and that system is maintained at the United States Patent and Trademark Office (USPTO). One of the rules, 15 CFR 280.310(d), provides that all documents pertaining to recordation must be mailed to a particular postal box maintained by the USPTO in Washington, DC.

The efficiency of the insignia recordation program will be enhanced if documents submitted in connection with the program are mailed to a postal box that is close to the USPTO's headquarters in Alexandria, Virginia. Accordingly, Section 280.310(d) is amended to provide that these documents be mailed to that postal box.

This final rule amends section 280.30, Application for Insignia, to identify the postal box to which all documents pertaining to recordation should be sent.

Additional Information

Executive Order 12866

This rule of agency organization and management is not subject to Executive Order 12866.

Executive Order 12612

This rule does not contain policies with Federalism implications sufficient to warrant preparation of a Federalism assessment under Executive Order 12612.

Administrative Procedure Act

Prior notice and an opportunity for public comment are not required for this rule of agency organization, procedure, or practice. 5 U.S.C. 553(b)(A). This rule revises the regulations to identify the address where documents submitted in connection with the recordal of fastener insignia may be mailed.

Regulatory Flexibility Act

Because notice and comment are not required under 5 U.S.C. 553, or any other law, the analytical requirements of the Regulatory Flexibility Act (5 U.S.C. 601 et seq.) are inapplicable. As such, a regulatory flexibility analysis is not required.

Paperwork Reduction Act

This rule involves a collection of information that is subject to the Paperwork Reduction Act (PRA), and that has been approved by the Office of Management and Budget (OMB) under control number 0651-0028. Notwithstanding any other provision of the law, no person is required to comply, nor shall any person be subject to penalty for failure to comply with, a collection of information, subject to the requirements of the Paperwork Reduction Act, unless that collection of information displays a currently valid OMB Control Number.

National Environmental Policy Act

This rule will not significantly affect the quality of the human environment. Therefore, an environmental assessment or Environmental Impact Statement is not required to be prepared under the National Environmental Policy Act of 1969.

List of Subjects in 15 CFR Part 280, Subpart D

Application for Insignia.

For the reasons set forth in the preamble, the National Institute of Standards and Technology and the United States Patent and Trademark Office amend 15 CFR Part 280, Subpart D, as follows:

PART 280—[AMENDED]

1. The authority citation for Part 280 continues to read:

Authority: 15 U.S.C. 5401 et seq.

2. Section 280.310 is amended by revising paragraph (d) to read as follows:

§ 280.310 Application for insignia.

* * * * *

(d) Applications and other documents should be addressed to: Director, United States Patent and Trademark Office, P.O. Box 16471, Arlington, VA 22215-1471 Attn: FQA

Dated: August 10, 2005.
Jon W. Dudas,
Under Secretary of Commerce for Intellectual Property and Director of the United States Patent and Trademark Office.
William Jeffrey,
Director, National Institute of Standards and Technology.

[FR Doc. 05-17020 Filed 8-25-05; 8:45 am]

BILLING CODE 3510-16-P